ENVIRONMENTAL PROTECTION AGENCY

[FRL-8463-7; Docket ID No. EPA-HQ-ORD-2006-0812]

Child-Specific Exposure Factors Handbook

AGENCY: Environmental Protection Agency (EPA).

ACTION: Notice of peer-review panel workshop.

SUMMARY: The Environmental Protection Agency (EPA) is announcing that Eastern Research Group, Inc. (ERG), an EPA contractor for external scientific review, will convene an independent panel of experts and organize and conduct a peer-review workshop, to review the external review draft document titled, “Child-Specific Exposure Factors Handbook” (EPA/600/R-06/096A). EPA provided an opportunity for public comment on the draft document from October 2006 to January 2007. The draft document was prepared by the National Center for Environmental Assessment (NCEA) within EPA's Office of Research and Development. The “Child-Specific Exposure Factors Handbook” provides a summary of statistical data on various exposure factors used in assessing children's exposures, including: Drinking water consumption; soil ingestion and mouthing behavior; inhalation rates; dermal factors including skin surface area and soil adherence factors; consumption of retail and home-grown foods; breast milk intake; and human activity pattern data. Once completed, this report will serve as a resource for exposure assessors for estimating children's exposures. An interim final version of this handbook was published in 2002. This updated version provides analysis of exposure factors data using the age groups for children recommended in the EPA document entitled, “Guidance on Selecting Age Groups for Monitoring and Assessing Childhood Exposures to Environmental Contaminants” (EPA/630/P-03/003F) (Available on line at http://cfpub.epa.gov/ncea/cfm/recordisplay.cfm?deid=146583).

EPA released this draft document in October 2006, solely for the purpose of pre-dissemination peer review under applicable information quality guidelines. This document has not been formally disseminated by EPA. It does not represent and should not be construed to represent any Agency policy or determination.

In preparing a final report, EPA will consider the public comments submitted to EPA's docket during the public comment period, and the contractor's report of the external peer-review workshop, including any oral public comments received at the workshop.

DATES: The peer-review panel workshop will begin on September 19, 2007, at approximately 8 a.m. and end at 4 p.m. on September 20, 2007. Members of the public may attend the peer-review panel workshop. Time will be set aside on the morning of September 19, 2007, for registered attendees who wish to make brief oral comments (for more information refer to the instructions for registration below).

ADDRESSES: Eastern Research Group, Inc. (ERG), an EPA contractor for external scientific review, will convene an independent panel of experts and organize and conduct a peer-review panel workshop to review this draft document. The peer-review panel workshop will be held at The Navy League Building, located at 2300 Wilson Boulevard, Arlington, VA. Observers may attend the peer-review panel workshop through a registration process by calling ERG's conference line between the hours of 9 a.m. and 5:30 p.m.EDT at (781) 674-7374 or toll free at (800) 803-2833, or by faxing a registration request to (781) 674-2906 (please reference the CSEFH Peer-Review Panel Workshop and include full address and contact information) , or by sending an e-mail to meetings@erg.com (subject line: CSEFH Peer-Review Panel Workshop; body: Include full address and contact information). Pre-registration is strongly recommended as space is limited, and registrations will be accepted on a first-come, first-served basis. The deadline for pre-registration is September 12, 2007. If space allows, registrations will continue to be accepted after this date, including on-site registration. Time will be set aside during the morning of the first day of the meeting to hear comments from observers, and individuals will be limited to a maximum of five minutes. Please inform ERG when registering if you wish to make a comment at the workshop.

The draft document, “Child-Specific Exposure Factors Handbook,” is available primarily via the Internet on the National Center for Environmental Assessment's home page under the Recent Additions and the Data and Publications menus at http://www.epa.gov/ncea. A limited number of paper copies are available from the Technical Information Staff, NCEA-W; telephone: (202) 564-3261; facsimile: (202) 565-0050. If you are requesting a paper copy, please provide your name, mailing address, and the document title, “Child-Specific Exposure Factors Handbook”. Copies are not available from ERG and copies will not be available onsite.

FOR FURTHER INFORMATION CONTACT: Questions regarding registration and logistics for the external peer-review panel workshop should be directed to ERG, 110 Hartwell Avenue, Lexington, MA 02421-3136; telephone: (781) 674-7374 or toll free at (800) 803-2833; facsimile: (781) 674-2906; e-mail: meetings@erg.com.

If you need technical information about the draft document, please contact Jacqueline Moya, National Center for Environmental Assessment (NCEA); telephone: (202) 564-3245; facsimile: (202) 565-0079; e-mail moya.jacqueline@epa.gov.

Dated: August 29, 2007.
Rebecca Clark,
Acting Director, National Center for Environmental Assessment.

[FR Doc. E7-17540 Filed 9-4-07; 8:45 am]

BILLING CODE 6560-50-P